DEPARTMENT OF AGRICULTURE

Federal Crop Insurance Corporation

7 CFR Parts 400, 407 and 457

RIN 0563-AB85

General Administrative Regulations, Subpart J—Appeal Procedure and Subpart T—Federal Crop Insurance Reform, Insurance Implementation, Regulations for the 1999 and Subsequent Reinsurance Years; Group Risk Plan of Insurance Regulations for the 2001 and Succeeding Crop Years; and the Common Crop Insurance Regulations, Basic Provisions

AGENCY: Federal Crop Insurance Corporation, USDA.

ACTION: Final rule; correction.

SUMMARY: This document contains a correction to the final regulations which were published Wednesday, June 25, 2003 (68 FR 37697-37726). The regulations pertain to the General Administrative Regulations, Subpart J—Appeal Procedure and Subpart T—Federal Crop Insurance Reform, Insurance Implementation, Regulations for the 1999 and Subsequent Reinsurance Years; Group Risk Plan of Insurance Regulations for the 2001 and Succeeding Crop Years; and the Common Crop Insurance Regulations, Basic Provisions.

EFFECTIVE DATE: June 18, 2003.

FOR FURTHER INFORMATION CONTACT: For further information contact Janice Nuckolls, Insurance Management Specialist, Research and Development, Product Development Division, Risk Management Agency, United States Department of Agriculture, 6501 Beacon Drive, Stop 0812, Room 421, Kansas City, MO, 64133-4676, telephone (816) 926-7730.

SUPPLEMENTARY INFORMATION:

Background

The final regulations that are the subject of this correction implemented changes mandated by the Federal Crop Insurance Act, as amended by the Agricultural Risk Protection Act of 2000, and required an earlier notice of loss for prevented planting in response to an Office of Inspector General Audit.

Need for Correction

As published, the final regulations contained a typographical error which may prove to be misleading and is in need of correcting. Section 37(a) of the Common Crop Insurance Regulations, Basic Provisions contained a cite, “section 8(b)(2)”, which should have been “section 8(b)(1).”

Correction of Publication

Accordingly, the publication on Wednesday, June 25, 2003 of the final regulations at 68 FR 37697-37726 is corrected as follows:

PART 457—[CORRECTED]

§ 457.8 [Corrected]

On page 37726, in the second column, section 37(a) cites “section 8(b)(2)” which is corrected to read “section 8(b)(1)”.

Signed in Washington, DC, on July 11, 2003.
Ross J. Davidson, Jr.,
Manager, Federal Crop Insurance Corporation.

[FR Doc. 03-18720 filed 7-22-03; 8:45 am]

BILLING CODE 3410-08-P